DEPARTMENT OF TRANSPORTATION

Office of the Secretary

[Docket OST-2006-25711; Order 2007-7-24]

Application of Maine Aviation Aircraft Charter, LLC. for Commuter Air Carrier Authority

AGENCY: Department of Transportation.

ACTION: Notice of Order to Show Cause.

SUMMARY: The Department of Transportation is directing all interested persons to show cause why it should not issue an order finding Maine Aviation Aircraft Charter, LLC., fit, willing, and able, and awarding it commuter air carrier authority to conduct scheduled passenger and cargo commuter service.

DATES: Persons wishing to file objections should do so no later than August 14, 2007.

ADDRESSES: Objections and answers to objections should be filed in Docket OST-2006-25711 and addressed to Docket Operations, (M-30, Room W12-140), U.S. Department of Transportation, 1200 New Jersey Avenue, SE., Washington, DC 20590, and should be served upon the parties listed in Attachment A to the order.

FOR FURTHER INFORMATION CONTACT: Richard Pittaway, Air Carrier Fitness Division (X-56, Room W86-461), U.S. Department of Transportation, 1200 New Jersey Avenue, SE., Washington, DC 20590, (202) 366-8856.

Dated: July 31, 2007.
Andrew B. Steinberg,
Assistant Secretary for Aviation and International Affairs.

[FR Doc. E7-15219 Filed 8-3-07; 8:45 am]

BILLING CODE 4910-9X-P